FEDERAL COMMUNICATIONS COMMISSION

47 CFR Part 20

[PS Docket No. 07-114; FCC 10-176]

Wireless E911 Location Accuracy Requirements

AGENCY: Federal Communications Commission.

ACTION: Final rule; announcement of effective date.

SUMMARY: In this document, the Commission announces that the Office of Management and Budget (OMB) has approved, for a period of three years, the information collection requirements contained in regulations concerning wireless E911 location accuracy requirements. The information collection requirements were approved on March 30, 2011 by OMB.

DATES: The amendments to 47 CFR 20.18(h)(1)(vi), (h)(2)(iii), and (h)(3) published at 75 FR 70604, November 18, 2010, are effective on April 28, 2011.

FOR FURTHER INFORMATION CONTACT: For additional information, please contact Patrick.Donovan@fcc.gov or on (202) 418-2413.

SUPPLEMENTARY INFORMATION: On November 18, 2010 at 75 FR 70604, the Commission published in the Federal Register the summary of the Second Report and Order (2nd R&O) in PS Docket No. 07-114; FCC 10-176. In the 2nd R&O, Commission amended 47 CFR 20.18(h) to require wireless licensees subject to standards for wireless Enhanced 911 (E911) Phase II location accuracy and reliability to satisfy these standards at either a county-based or Public Safety Answering Point (PSAP)-based geographic level. The Commission took this step to ensure an appropriate and consistent compliance methodology with respect to location accuracy standards. In the notice at 75 FR 70604, the Commission announced that the amended rule is effective January 18, 2011, except for §§ 20.18(h)(1)(vi), 20.18(h)(2)(iii), and 20.18(h)(3), which contain information collection requirements that have not been approved by OMB. The Commission also announced that it would publish a document in the Federal Register announcing the effective date. The Commission's estimate of burden hours for the information collection approved by OMB also considers the potential filing of waiver requests to provide the Commission and the public safety community, including public safety organizations and State and local jurisdiction and PSAPs, awareness of the wireless carriers and SSPs that are experiencing an inability to comply with the amended location accuracy requirements. In the 2ndR&O, the Commission declined to adopt any changes to the Commission's existing waiver criteria, which it found have been sufficient to date in addressing particular circumstances on a case-by-case basis and remain available to all carriers. Further, the Commission expected that the rule changes allowing for handset-based and network-based carriers to claim exclusions based on the specified limitations should minimize the need for waiver relief.

Synopsis

As required by the Paperwork Reduction Act of 1995 (44 U.S.C. 3507), the Commission is notifying the public that it received OMB approval on March 30, 2011, for the information collection requirements contained in 47 CFR 20.18(h). Under 5 CFR 1320, an agency may not conduct or sponsor a collection of information unless it displays a current, valid OMB Control Number.

No person shall be subject to any penalty for failing to comply with a collection of information subject to the Paperwork Reduction Act that does not display a valid OMB Control Number. The OMB Control Number is 3060-1147 and the total annual reporting burdens for respondents for this information collection are as follows:

OMB Control Number: 3060-1147.

Title: Wireless E911 Location Accuracy Requirements.

OMB Approval Date: March 30, 2011.

OMB Expiration Date: March 31, 2014.

Form No.: N/A.

Type of Review: New collection (Request for a new OMB Control Number).

Respondents: Business or other for-profit.

Number of Respondents: 6,000 respondents; 13,700 responses.

Estimated Time per Response: 11.85 hours (average).

Frequency of Response: On occasion reporting requirement.

Obligation to Respond: Mandatory. Total Annual Burden: 71,100 hours.

Total Annual Cost: N/A.

Privacy Act Impact Assessment: N/A.

Nature and Extent of Confidentiality: No confidentiality is required for this collection.

Needs and Uses: Pursuant to 47 CFR 20.18(h)(1)(vi), wireless carriers using network-based technologies to provide Enhanced 911 (E911) Phase II service may exclude from compliance with the Commission's amended location accuracy standards under 47 CFR 20.18(h)(1)(i)-(v) particular counties, or portions of counties, where triangulation is not technically possible, such as locations where at least three cell sites are not sufficiently visible to a handset. However, carriers must file a list of the specific counties or portions of counties where they are utilizing this exclusion within 90 days following approval from the Office of Management and Budget for the related information collection. This list must be submitted electronically into PS Docket No. 07-114, and copies must be sent to the National Emergency Number Association, the Association of Public-Safety Communications Officials-International, and the National Association of State 9-1-1 Administrators. Further, carriers must submit in the same manner any changes to their exclusion lists within thirty days of discovering such changes. This exclusion will sunset eight years after January 18, 2011.

Pursuant to 47 CFR 20.18(h)(2)(iii), wireless carriers wireless carriers using handset-based technologies to provide Enhanced 911 (E911) Phase II service must file a list of the specific counties or PSAP service areas where they are utilizing an exclusion under 47 CFR 20.18(h)(2)(i)-(ii) to exclude 15 percent of counties or PSAP service areas from the 150 meter requirement based upon heavy forestation that limits handset-based technology accuracy in those counties or PSAP service areas. Such carriers must file the list within 90 days following approval from the Office of Management and Budget for the related information collection. This list must be submitted electronically into PS Docket No. 07-114, and copies must be sent to the National Emergency Number Association, the Association of Public-Safety Communications Officials-International, and the National Association of State 9-1-1 Administrators. Further, carriers must submit in the same manner any changes to their exclusion lists within thirty days of discovering such changes.

Pursuant to 47 CFR 20.18(h)(3), two years after January 18, 2011, all carriers subject to this section shall be required to provide confidence and uncertainty data on a per-call basis upon the request of a PSAP. Once a carrier has established baseline confidence and uncertainty levels in a county or PSAP service area, ongoing accuracy shall be monitored based on the trending of uncertainty data and additional testing shall not be required. All entities responsible for transporting confidence and uncertainty between wireless carriers and PSAPs, including LECs, CLECs, owners of E911 networks, and emergency service providers (collectively, System Service Providers (SSPs)) must implement any modifications that will enable the transmission of confidence and uncertainty data provided by wireless carriers to the requesting PSAP. If an SSP does not pass confidence and uncertainty data to PSAPs, the SSP has the burden of proving that it is technically infeasible for it to provide such data.

Federal Communications Commission.
Marlene H. Dortch,
Secretary.

[FR Doc. 2011-10229 Filed 4-27-11; 8:45 am]

BILLING CODE 6712-01-P